DEPARTMENT OF JUSTICE

Antitrust Division

Notice Pursuant to the National Cooperative Research and Production Act of 1993—The Open Group, L.L.C.

Notice is hereby given that, on May 7, 2015, pursuant to section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances.

Specifically, Action Research Foundation, Bangalore, INDIA; Air China Limited, Beijing, PEOPLE'S REPUBLIC OF CHINA; Alberta Health Services, Alberta, CANADA; Avancier Limited, New Malden, UNITED KINGDOM; Build IT Solutions, São Paulo, BRAZIL; Concurrent Computer Corporation, Duluth, GA; E-quality Italia S.r.l., Rome, ITALY; IASA Global, Austin, TX; Info Spec Sdn Bhd., Petaling Jaya, MALAYSIA; International Technology Transfer Group, Cairo, EGYPT; Lawrence Berkeley National Laboratory, Berkeley, CA; Little Oliver Consulting, North York, CANADA; LTS, Inc., Tokyo, JAPAN; Office of the National Coordinator for Health Information Technology, Washington, DC; Primesource AS, Oslo, NORWAY; ServiceNow, Inc., Santa Clara, CA; Sykehuspartner HF, Dramman, NORWAY; The SABSA Institute, Hove, UNITED KINGDOM; TriZetto Corporation, St. Louis, MO; Ultrax Aerospace, Inc., Lee's Summit, MO; and Westbury Software, Amsterdam, THE NETHERLANDS, have been added as parties to this venture.

Also, Accelare, Inc., Randolph, MA; Austen Consultancy Services Ltd., Cambridge, UNITED KINGDOM; Barko Federal Systems LLC, Duluth, GA; BDNA, Mountain View, CA; BSI SA, Bioggio, SWITZERLAND; BCS-Dr. Juergen Pitschke, Dresden, GERMANY; CLARS Limited, Clacton-on-Sea, UNITED KINGDOM; ETIS, Brussels, BELGIUM; Helse Sør-Øst RHF, Hamar, NORWAY; Science Application International Corporation, Columbia, MD; Trung Tam Chinh Phu Dien Tu—CucTin Hoc Ho A, Hanoi, VIETNAM; ViaSat, Inc., Carlsbad, CA; and Yokohama National University, Yokohama, JAPAN, have withdrawn as parties to this venture.

In addition, Henri Tudor Public Research Center has changed its name to Luxembourg Institute of Science and Technology, Esch/Alzette, LUXEMBOURG; and Qtel International has changed its name to Ooredoo Group LLC, Doha, QATAR.

No other changes have been made in either the membership or planned activity of the group research project. Membership in this group research project remains open, and TOG intends to file additional written notifications disclosing all changes in membership.

On April 21, 1997, TOG filed its original notification pursuant to section 6(a) of the Act. The Department of Justice published a notice in the Federal Register pursuant to section 6(b) of the Act on June 13, 1997 (62 FR 32371).

The last notification was filed with the Department on March 9, 2015. A notice was published in the Federal Register pursuant to section 6(b) of the Act on April 2, 2015 (80 FR 17786).

Patricia A. Brink,
Director of Civil Enforcement, Antitrust Division.

[FR Doc. 2015-13609 Filed 6-3-15; 8:45 am]

BILLING CODE P